DEPARTMENT OF COMMERCE

National Oceanic and Atmospheric Administration

Final Management Plan and Environmental Assessment for Monitor National Marine Sanctuary: Notice of Public Availability

AGENCY: Office of National Marine Sanctuaries (ONMS), National Ocean Service (NOS), National Oceanic and Atmospheric Administration (NOAA), Department of Commerce (DOC).

ACTION: Notice of public availability.

SUMMARY: NOAA is releasing the final management plan and environmental assessment for Monitor National Marine Sanctuary.

DATE: The final management plan and environmental assessment for Monitor National Marine Sanctuary is now available.

ADDRESSES: To obtain a copy of the final management plan and environmental assessment, contact the Management Plan Review Coordinator, Monitor National Marine Sanctuary, 100 Museum Drive, Newport News, VA 23606; (757) 591-7328; or via email at Monitor@noaa.gov. Copies can also be downloaded from the Monitor National Marine Sanctuary (MNMS) Web site at http://monitor.noaa.gov.

FOR FURTHER INFORMATION CONTACT: Shannon Ricles at (757) 591-7328.

SUPPLEMENTARY INFORMATION:

I. Background Information

On January 30, 1975, the National Oceanic and Atmospheric Administration (NOAA) designated Monitor National Marine Sanctuary (MNMS) as the nation's first national marine sanctuary. MNMS protects the wreck of the famed Civil War ironclad, USS Monitor, best known for its battle with the Confederate ironclad, CSS Virginia in Hampton Roads, VA, on March 9, 1862.

NOAA began to review the management plan for MNMS in December 2008 with public scoping (including meetings). This was followed by meetings of sanctuary advisory council working groups to develop the action plans of the management plan.

NOAA released a draft revised management plan on April 12, 2012, and accepted comments through June 22, 2012 (77 F.R. 22761). During the public comment period, NOAA held five public meetings in Raleigh, NC, Wilmington, NC, Beaufort, NC, Nags Head, NC, and Newport News, VA. Comments can be viewed at http://www.regulations.gov with docket number NOAA-NOS-2012-0076. All comments received are addressed in Appendix I: Response to Public Comments.

II. Environmental Assessment

NOAA prepared an environmental assessment, pursuant to the National Environmental Policy Act, that analyzes the environmental impacts of the revised management plan. NOAA's analysis of environmental impacts of this action resulted in a finding of no significant impact.

Dated: February 6, 2013.
Daniel J. Basta,
Director, Office of National Marine Sanctuaries.

[FR Doc. 2013-03430 Filed 2-13-13; 8:45 am]

BILLING CODE 3510-NK-P